DEPARTMENT OF ENERGY

Federal Energy Regulatory Commission

[Docket Nos. CP01-176-000 and CP01-179-000]

Georgia Strait Crossing Pipeline LP; Notice of a Public Comment Meeting on the Draft Environmental Impact Statement for the Proposed Georgia Strait Crossing Project

February 7, 2002.

The staff of the Federal Energy Regulatory Commission (FERC) has prepared a draft environmental impact statement (DEIS) that discusses the environmental impacts of the Georgia Strait Crossing Project. This project involves construction and operation of facilities by Georgia Strait Crossing Pipeline LP (GSX-US) in Whatcom and San Juan Counties, Washington. The facilities includes about 47 miles of 20- and 16-inch-diameter pipeline (33.4 miles onshore, 13.9 miles offshore), the Sumas Interconnect Facility (receipt point meter station, pig launcher, interconnect piping, and mainline valve), the Cherry Point Compressor Station (a 10,302-horsepower compressor unit, pig launcher/receiver, and mainline /tap valves), and other associated aboveground facilities (four mainline valves and an offshore tap valve).

This notice is being sent to all persons to whom we¹ mailed the DEIS.

¹ “We” refers to the environmental staff of the Office of Energy Projects.

In addition to or in lieu of sending written comments on the DEIS, we invite you to attend a public comment meeting that the FERC will conduct in the project area. The location and time for the meeting is listed below:

Date and Time/ Location

February 26, 2002, 7 p.m.—Lynden High School, Cafeteria, 1201 Bradley Road, Lynden, WA 98264

The public meetings are designed to provide you with an opportunity to offer your comments on the DEIS in person. A transcript of the meetings will be made so that your comments will be accurately recorded.

Magalie R. Salas,
Secretary.

[FR Doc. 02-3464 Filed 2-12-02; 8:45 am]

BILLING CODE 6717-01-P